ENVIRONMENTAL PROTECTION AGENCY

40 CFR Part 300

[FRL-7097-2]

National Oil and Hazardous Substances Contingency Plan; National Priorities List

AGENCY: Environmental Protection Agency (EPA).

ACTION: Notice of intent to delete a portion of the Sangamo Weston/Twelve Mile Creek/Lake Hartwell (Sangamo) Superfund Site from the National Priorities List (NPL).

SUMMARY: The United States Environmental Protection Agency (US EPA), Region 4, announces its intent to partially delete a portion of the Sangamo Superfund Site, located in Pickens, South Carolina, from the National Priorities List (NPL) and is only requesting adverse public comment(s) on this notice. The proposed partial deletion is for the Dodgens remote property which is located within a few miles of the main plant property. The NPL, promulgated pursuant to section 105 of the Comprehensive Environmental Response, Compensation, and Liability Act of 1980 (CERCLA), as amended, is appendix B of 40 CFR part 300, which is the National Oil and Hazardous Substances Pollution Contingency Plan. The EPA and the State of South Carolina Department of Health and Environmental Control have determined that all appropriate response actions under CERCLA have been completed for the Dodgens remote property. However, this deletion does not preclude future actions under CERCLA. In the “Rules and Regulations” section of today's Federal Register, we are publishing a direct final notice of deletion of the Dodgens portion of the Sangamo Superfund Site without prior notice of intent to delete because we view this as a noncontroversial revision and anticipate no adverse comments. We have explained our reasons for this deletion in the preamble to the direct final notice of deletion. If we receive no adverse comment(s), we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the “Rules and Regulations” section of this Federal Register.

DATES: Comments concerning this notice of intent to partially delete a portion of the Sangamo Site must be received by January 4, 2002.

ADDRESSES: Written comments may be mailed to: Sheri Cresswell, US EPA, Region 4, 61 Forsyth St., WD-NSMB, SW, Atlanta, GA, 30303.

FOR FURTHER INFORMATION CONTACT: Please contact either Sheri Cresswell (Remedial Project Manager) at 803-896-4171 or Tiki Whitfield (Community Relations Coordinator) at 1-800-435-9233 or 404-562-8530.

SUPPLEMENTARY INFORMATION: For additional information, see the Direct Final Notice of Deletion which is located in the Rules section of this Federal Register.

Information Repositories

Repositories have been established to provide detailed information concerning this decision at the following addresses: U.S. EPA, Region 4 Superfund Records Center, 61 Forsyth St., SW., Atlanta, GA, 30303, attn: Ms. Debbie Jourdan, (404) 562-8862; R.M. Cooper Library, Clemson University, South Palmetto Boulevard., Clemson, SC, (864) 656-5174; Pickens County Public Library, Easley Branch, 110 West First Avenue, Easley, SC (864) 850-7077; and Hart County Library, 150 Benson Street, Hartwell, GA (706) 376-4655.

List of Subjects in 40 CFR Part 300

Environmental protection, Hazardous waste.

Authority: 33 U.S.C. 1321(c)(2); 42 U.S.C. 9601-9657; E.O. 12777, 56 FR 54757, 3 CFR, 1991 Comp., p. 351; E.O. 12580; 52 FR 2923, 3 CFR, 1987 Comp., p. 193.

Dated: September 28, 2001.
A. Stanley Meiburg,
Acting Regional Administrator, Region 4.

[FR Doc. 01-27464 Filed 11-2-01; 8:45 am]

BILLING CODE 6560-50-P